SMALL BUSINESS ADMINISTRATION

[Disaster Declaration # 10760]

Alaska Disaster # AK-00009

AGENCY: U.S. Small Business Administration.

ACTION: Notice.

SUMMARY: This is a Notice of the Presidential declaration of a major disaster for Public Assistance Only for the State of Alaska (FEMA—1669—DR), dated 12/08/2006.

Incident: Severe Storms, Flooding, Landslides, and Mudslides.

Incident Period: 10/08/2006 through 10/13/2006.

Effective Date: 12/08/2006.

Physical Loan Application Deadline Date: 02/06/2007.

ADDRESSES: Submit completed loan applications to: U.S. Small Business Administration, Processing And Disbursement Center, 14925 Kingsport Road, Fort Worth, Tx 76155.

FOR FURTHER INFORMATION CONTACT: A. Escobar, Office of Disaster Assistance, U.S. Small Business Administration, 409 3rd Street, SW., Suite 6050, Washington, DC 20416.

SUPPLEMENTARY INFORMATION: Notice is hereby given that as a result of the President's major disaster declaration on 12/08/2006, Private Non-Profit organizations that provide essential services of a governmental nature may file disaster loan applications at the address listed above or other locally announced locations.

The following areas have been determined to be adversely affected by the disaster:

Primary Counties:

Chugach Reaa (10), Copper River Reaa (11), Kenai Peninsula Borough

The Interest Rates are:

| Percent
Other (Including Non-Profit Organizations) With Credit Available Elsewhere | 5.000
Businesses and Non-Profit Organizations Without Credit Available Elsewhere | 4.000

The number assigned to this disaster for physical damage is 10760.

(Catalog of Federal Domestic Assistance Number 59008).

Herbert L. Mitchell,
Associate Administrator for Disaster Assistance.

[FR Doc. E6-21811 Filed 12-20-06; 8:45 am]

BILLING CODE 8025-01-P